DEPARTMENT OF HEALTH AND HUMAN SERVICES

National Institutes of Health

National Institute of Mental Health; Notice of Request for Information

Notice is hereby given of a Request for Information (RFI): Updating the Interagency Autism Coordinating Committee Strategic Plan for Autism Spectrum Disorder (ASD) Research, NOT-MH-09-013, issued by the National Institute of Mental Health on behalf of the Interagency Autism Coordinating Committee (IACC).

The purpose of this RFI is to request input from ASD stakeholders to inform the next update of the Strategic Plan. Please see the official RFI notice at http://grants.nih.gov/grants/guide/notice-files/NOT-MH-09-013.html for more information and instructions for responding by the deadline of August 21, 2009. All responses must be submitted electronically via the Web-based form found at http://www.acclaroresearch.com/oarc/rfi/.

Contact Person: Attention: RFI on Updating the Strategic Plan for ASD Research, Office of the Director, National Institute of Mental Health, NIH, 6001 Executive Boulevard, Room 8235, MSC 9669, Bethesda, MD 20892-9669, iacc@mail.nih.gov.

Information about the IACC is available on the Web site: http://www.iacc.hhs.gov.

Dated: July 29, 2009.
Anna Snouffer,
Deputy Director, Office of Federal Advisory Committee Policy.

[FR Doc. E9-18704 Filed 8-4-09; 8:45 am]

BILLING CODE 4140-01-P